DEPARTMENT OF HEALTH AND HUMAN SERVICES

National Institutes of Health

National Institute of Mental Health; Amended Notice of Meeting

Notice is hereby given of a change in the meeting of the National Institute of Mental Health Special Emphasis Panel, May 14, 2009, 9 a.m. to May 14, 2009, 5 p.m., Melrose Hotel, 2430 Pennsylvania Ave., NW., Washington, DC 20037 which was published in the Federal Register on April 17, 2009, 74 FR N17874.

The meeting will be held on June 2, 2009. The time and meeting location remains the same. The meeting is closed to the public.

Dated: April 22, 2009.
Jennifer Spaeth,
Director, Office of Federal Advisory Committee Policy.

[FR Doc. E9-9857 Filed 4-28-09; 8:45 am]

BILLING CODE 4140-01-P